DEPARTMENT OF JUSTICE

Notice of Lodging of Consent Decree Pursuant to the Clean Air Act (“CAA”)

Consistent with the policy set forth in the Department of Justice regulations at 28 CFR 50.7, notice is hereby given that on April 4, 2002, a proposed Consent Decree was lodged with the United States District Court for the Eastern District of Michigan, in United States et al. v. Rouge Steel Co., Civil Action Nos. 00-75452 and 0075454, consolidated. The proposed Consent Decree settles claims asserted by the United States, on behalf of the U.S. Environmental Protection Agency, pursuant to section 113(b) of the Clean Air Act, 42 U.S.C. 9613(b), and the federally enforceable State Implementation Plan (“SIP”), at the Rouge Steel manufacturing facility in Dearborn, Michigan. The United States' case was consolidated with an action filed by Wayne County, Michigan, which the Michigan Department of Environmental Quality (“MDEQ”) subsequently joined. The proposed Consent Decree also settles the County and MDEQ CAA claims. The Consent Decree also settles claims asserted by the United States under Sections 3004(n) and 3005 of the Resource Conservation and Recovery Act, 42 U.S.C. 6924(n) and 6925.

The Consent Decree requires Rouge Steel to pay a total of $458,000 in civil penalties, of which $396,000 is for alleged violations of SIP emission limits at the company's facility. To ensure ongoing compliance with applicable limits, the Decree also requires Rouge Steel to perform certain demonstration tests at its various emission sources.

The Department of Justice will receive written comments relating to the proposed Consent Decree for thirty (30) days from the date of publication of this notice. Comments should be directed to the Assistant Attorney General, Environment and Natural Resources Division, U.S. Department of Justice, Washington, DC 20530, and should refer to United States et al. v. Rouge Steel Co. DOJ Reference # 90-5-2-1-2211/1.

The proposed Consent Decree may be examined at the Office of the United States Attorney for the Eastern District of Michigan, 211 West Fort Street, Suite 2001, Detroit, Michigan 48266 (contact Peter A. Caplan, (313) 226-3800), and at the offices of the U.S. Environmental Protection Agency, Region 5, 77 West Jackson Boulevard, Chicago, Illinois 60604-3590 (contact Gaylene Vasaturo, (312) 886-1811). Copies may also be obtained by mail from the Department of Justice Consent Decree Library, P.O. Box 7611, Washington, DC 20044-7611. In requesting copies, please refer to the case name and DOJ reference number and enclose a check in the amount of $11.25 (25 cents per page reproduction cost) payable to the Consent Decree Library.

William D. Brighton,
Assistant Chief, Environmental Enforcement Section, Environment and Natural Resources Division.

[FR Doc. 02-9398 Filed 4-17-02; 8:45 am]

BILLING CODE 4410-15-M